DEPARTMENT OF VETERANS AFFAIRS

[OMB Control No. 2900-0576]

Agency Information Collection Activity Under OMB Review: Certification of Affirmation of Enrollment Agreement Correspondence Course

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed Reinstatement of a Previously Approved Information Collection should be sent within 30 days of publication of this notice to www.reginfo.gov/public/do/PRAMain. Find this particular information collection by selecting “Currently under 30-day Review—Open for Public Comments” or by using the search function. Refer to “OMB Control No. 2900-0576.

FOR FURTHER INFORMATION CONTACT: Maribel Aponte, Office of Enterprise and Integration, Data Governance Analytics (008), 1717 H Street NW, Washington, DC 20006, (202) 266-4688 or email maribel.aponte@va.gov. Please refer to “OMB Control No. 2900-0576” in any correspondence.

SUPPLEMENTARY INFORMATION: Authority: 38 U.S.C. 3686(b); 38 U.S.C. 3323(a); 10 U.S.C. 16131, and 38 CFR 21.74256(b).

Title: Certification of Affirmation of Enrollment Agreement Correspondence Course.

OMB Control Number: 2900-0576.

Type of Review: Revision of a currently approved collection.

Abstract: VA uses information from the current collection to pay education benefits for correspondence training. This information allows VA to determine if the claimant has been informed of the 5-day reflection period required by law.

An agency may not conduct or sponsor, and a person is not required to respond to a collection of information unless it displays a currently valid OMB control number. The Federal Register Notice with a 60-day comment period soliciting comments on this collection of information was published at 86 FR No. 211 on November 4, 2021, page 60969.

Affected Public: Individuals or households.

Estimated Annual Burden: 3 hours.

Estimated Average Burden per Respondent: 3 minutes.

Frequency of Response: Annually.

Actual Number of Respondents: 69.

By direction of the Secretary.
Maribel Aponte,
VA PRA Clearance Officer, Office of Enterprise and Integration, Data Governance Analytics, Department of Veterans Affairs.

[FR Doc. 2022-00006 Filed 1-5-22; 8:45 am]

BILLING CODE 8320-01-P